DEPARTMENT OF HEALTH AND HUMAN SERVICES

Meeting of the Advisory Group on Prevention, Health Promotion, and Integrative and Public Health

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that a meeting is scheduled to be held for the Advisory Group on Prevention, Health Promotion, and Integrative and Public Health (the “Advisory Group”). The meeting will be open to the public. Information about the Advisory Group and the agenda for this meeting can be obtained by accessing the following Web site: http://www.surgeongeneral.gov/initiatives/prevention/advisorygrp/index.html.

DATES: The meeting will be held on December 11, 2013 from 3:00-5:00 p.m. EST via teleconference. More information can be found at: http://www.surgeongeneral.gov/initiatives/prevention/advisorygrp/index.html.

FOR FURTHER INFORMATION CONTACT: Office of the Surgeon General, 200 Independence Ave. SW.; Hubert H. Humphrey Building, Room 701H; Washington, DC 20201; 202-205-9517; prevention.council@hhs.gov.

SUPPLEMENTARY INFORMATION: The Advisory Group is a non-discretionary federal advisory committee that was initially established under Executive Order 13544, dated June 10, 2010, to comply with the statutes under Section 4001 of the Patient Protection and Affordable Care Act, Public Law 111-148. Under Executive Order 13591, dated November 23, 2011, operation of the Advisory Group was terminated on September 30, 2012. On December 7, 2012, President Obama issued Executive Order 13631 to re-establish the Advisory Group until September 30, 2013. Authorization for the Advisory Group to continue to operate until September 30, 2015, was given under Executive Order 13652, dated September 30, 2013. The Advisory Group was established to assist in carrying out the mission of the National Prevention, Health Promotion, and Public Health Council (the Council). The Advisory Group provides recommendations and advice to the Council.

It is authorized for the Advisory Group to consist of not more than 25 non-federal members. The Advisory Group currently has 22 members who were appointed by the President. The membership includes a diverse group of licensed health professionals, including integrative health practitioners who have expertise in (1) worksite health promotion; (2) community services, including community health centers; (3) preventive medicine; (4) health coaching; (5) public health education; (6) geriatrics; and (7) rehabilitation medicine. Topics of discussion for the December 2013 meeting of the Advisory Group include an update from the National Prevention Council; discussion of the Education and Health Working Group recommendations; and discussion of the draft report to the Surgeon General.

Members of the public who wish to attend must register by 12:00 p.m. EST on December 4, 2013. Individuals should register for public attendance at prevention.council@hhs.gov by providing your full name and affiliation. The public will have the opportunity to provide comments to the Advisory Group; public comment will be limited to 3 minutes per speaker. Registration through the designated contact for the public comment session is also required. Any member of the public who wishes to have printed materials distributed to the Advisory Group for this scheduled meeting should submit material to the designed point of contact no later than 12:00 p.m. EST on December 4, 2013.

Dated: November 4, 2013.
Corinne M. Graffunder,
Designated Federal Officer, Advisory Group on Prevention, Health Promotion, and Integrative and Public Health, Office of the Surgeon General.

[FR Doc. 2013-27927 Filed 11-20-13; 8:45 am]

BILLING CODE 4163-18-P